DEPARTMENT OF ENERGY

Energy Information Administration

Agency Information Collection Activities: Proposed Collection; Comment Request

AGENCY: Energy Information Administration (EIA), Department of Energy (DOE).

ACTION: Agency Information Collection Activities: Proposed Collection; Comment Request.

SUMMARY: The EIA is soliciting comments on the proposed revision and 3-year extension of the surveys in the Natural Gas Data Collection Program Package. The surveys covered by this request include:

• Form EIA-176, “Annual Report of Natural and Supplemental Gas Supply and Disposition”

• EIA-191, “Monthly and Annual Underground Gas Storage Report”

• EIA-857, “Monthly Report of Natural Gas Purchases and Deliveries to Consumers”

• EIA-895, “Monthly and Annual Quantity and Value of Natural Gas Production Report”

• EIA-910, “Monthly Natural Gas Marketer Survey”

• EIA-912, “Weekly Underground Natural Gas Storage Report”

• EIA-757, “Natural Gas Processing Plant Survey”

DATES: Comments must be filed by June 2, 2008. If you anticipate difficulty in submitting comments within that period, contact the person listed below as soon as possible.

ADDRESSES: Send comments to Ms. Amy Sweeney, Natural Gas Division, Office of Oil and Gas, Energy Information Administration. To ensure receipt of the comments by the due date, submission by fax (202-586-4420) or e-mail (amy.sweeney@eia.doe.gov) is recommended. The mailing address is Ms. Amy Sweeney, Energy Information Administration, U.S. Department of Energy, 1000 Independence Ave., SW., EI-44, Washington, DC 20585. Also, Ms. Sweeney may be contacted by telephone at 202-586-2627.

FOR FURTHER INFORMATION CONTACT: Requests for additional information or copies of any forms and instructions should be directed to Ms. Sweeney at the address listed above. Also, the draft forms and instructions are available on the EIA Web site at http://www.eia.doe.gov/oil_gas/fwd/proposed.html.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet both near and longer-term domestic demands.

The EIA, as part of its effort to comply with the Paperwork Reduction Act of 1995 (Pub. L. 104-13, 44 U.S.C. Chapter 35), provides the general public and other Federal agencies with opportunities to comment on the collection of energy information conducted by or in conjunction with the EIA. Any comments help the EIA prepare data requests that maximize the utility of the information collected and assess the impact of collection requirements on the public. As required by section 3507(h)(1) of the Paperwork Reduction Act of 1995, the EIA will later seek approval for this collection by the Office of Management and Budget (OMB).

The natural gas surveys included in the Natural Gas Data Collection Program Package collect information on natural gas production, underground storage, supply, processing, transmission, distribution, consumption by sector, and wellhead and consumer prices. This information is used to support public policy analyses of the natural gas industry and estimates generated from data collected on these surveys. The statistics generated from these surveys are posted to the EIA Web site (http://www.eia.doe.gov) in various EIA products, including the Weekly Natural Gas Storage Report (WNGSR), Natural Gas Monthly (NGM), Natural Gas Annual (NGA), Monthly Energy Review (MER), Short-Term Energy Outlook (STEO), Annual Energy Outlook (AEO), and Annual Energy Review (AER). Respondents to EIA natural gas surveys include State agencies, underground storage operators, transporters, marketers, and distributors. Each form included as part of this package is discussed in detail below.

Please refer to the proposed forms and instructions for more information about the purpose, who must report, when to report, where to submit, the elements to be reported, detailed instructions, provisions for confidentiality, and uses (including possible nonstatistical uses) of the information. For instructions on obtaining materials, see the FOR FURTHER INFORMATION CONTACT section.

II. Current Actions

EIA will be requesting a 3-year extension of the collection authority for each of the above-referenced surveys and will have minor changes made to the forms and instructions to provide simplicity and clarity. In addition, EIA proposes the changes outlined below.

Form EIA-176, “Annual Report of Natural and Supplemental Gas Supply and Disposition”

In Part 6 of the form, EIA proposes to collect “Revenue” data for deliveries of natural gas that are transported but not owned by the delivery company in item 11. This change will create consistency within the form, as item 10 (deliveries owned) currently includes “Revenue” among the collected data. By collecting Revenue for the gas transported but not owned by the EIA-176 respondents, the quality of EIA's natural gas transportation price information will be improved. Prices would be derived by dividing the revenue from delivery of natural gas not owned by the volume of natural gas not owned by the delivery company. The new data would give EIA an annual benchmark with which to compare the monthly revenue from the delivery of gas not owned collected on Form EIA-857, “Monthly Report of Natural Gas Purchases and Deliveries.” EIA has learned that having annual benchmark revenue data with which to compare monthly data results in better data quality as the monthly data are frequently subject to accounting adjustments that occur due to the staggered timing of meter readings during the month.

Form EIA-857, “Monthly Report of Natural Gas Purchases and Deliveries to Consumers”

EIA is proposing to collect “Revenue” data for gas sold and transported to electric power customers as it does for residential, commercial, industrial, and other natural gas customers. EIA also proposes to collect customer counts, i.e., the number of customers, for each end-use sector as it does on the annual form, EIA-176.

Currently electric revenue data are not collected, as the data used to determine published prices for natural gas used for electric generation come from other EIA surveys, Form EIA-423, “Monthly Cost and Quality of Fuels for Electric Plants Report,” and Form EIA-906, “Power Plant Report.” However, not allowing respondents to report revenue for deliveries to the electric power sector on Form EIA-857 has caused some confusion as to where this revenue should be reported. Consequently, some revenue has been reported in the wrong end-use sector. Additionally, having the data available on a monthly basis will provide a useful comparison to the electric power revenue already collected on Form EIA-176, as comparing monthly to annual revenue data for the other end-use sectors frequently reveals discrepancies between the two series.

EIA also proposes to collect customer counts, i.e., number of customers, for each of the end-use sectors for gas sold and transported to residential, commercial, industrial, electric power and other customers. Having this data will enable EIA to better monitor fluctuations in monthly volume reporting which are commonly the result of changes to the number of customers being served.

Form EIA-895, “Monthly and Annual Quantity and Value of Natural Gas Production Report”

EIA proposes the continuation of EIA-895, “Annual Quantity and Volume of Natural Gas Production Report” in its present form with the addition of natural gas production gross withdrawals data from “Shale” sources. Natural gas produced from this source has increased in recent years and is expected to rise in the future; therefore, EIA finds it necessary to accurately capture this source of natural gas production.

EIA has discontinued Form EIA-895M, “Monthly Quantity and Volume of Natural Gas Production Report” as the EIA-914, “Monthly Natural Gas Production Report” became the new source of monthly natural gas production data in January 2007.

Form EIA-910, “Monthly Natural Gas Marketer Survey”

EIA proposes three changes to Form EIA-910:

A. EIA proposes that respondents report customer count, volume, and revenue data for each local distribution company's territory in which the respondent operates instead of at the State level, as currently reported. Having such information would enable EIA to more closely compare marketer volumes against volumes transported on the account of marketers on Form EIA-857, “Monthly Report of Natural Gas Purchases and Deliveries to Consumers,” and resolve discrepancies between the two sources.

B. In states where EIA collects data from natural gas marketers on Form EIA-910, natural gas marketers sell significant amounts of natural gas to residential and commercial end users. The data collected have shown that the prices from the sales by natural gas marketers have differed from prices of natural gas sold by local distribution companies, in many cases by more than ten percent. Therefore, EIA has determined that states should be considered for collection on the Form EIA-910 that meet one of the following criteria: (1) More than 40 percent of natural gas in a particular state in the residential and/or commercial sector is sold by natural gas marketers, or (2) the amount of natural gas sold by marketers in a state and sector comprises at least 2 percent of natural gas sales in the residential or commercial sector at the U.S. level. Based on these criteria, the states of Alaska, California, Maine, Oklahoma, and Wyoming are proposed for collection on Form EIA-910 while the states of Massachusetts and Michigan are proposed to be removed from the Form EIA-910 survey frame. Currently none of the proposed states for inclusion on Form EIA-910 have market penetration of natural gas marketers at significant levels in the residential sector. However, EIA also proposes to collect data from natural gas marketers serving residential customers, if any, in those states in order to monitor the market and provide data for EIA's annual update of the status of residential choice in the natural gas market. EIA proposes that the collection of forms from Alaska, California, Maine, Oklahoma, and/or Wyoming begin in July 2009, and that Massachusetts and Michigan no longer be collected beginning in January 2009.

C. EIA proposes that natural gas volume data on Form EIA-910, “Natural Gas Marketer Report,” be collected only in Mcf (thousand cubic feet) rather than Btu (heat content) or Mcf.

Form EIA-757, “Natural Gas Processing Plant Survey”

EIA proposes adding this new approved form as part of the EIA natural gas collection so that it will be on the same clearance cycle with all EIA natural gas survey forms. No changes are proposed to the Form EIA-757.

III. Request for Comments

Prospective respondents and other interested parties should comment on the actions discussed in items II and III. The following guidelines are provided to assist in the preparation of comments. Please indicate to which forms your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for the surveys included in the Natural Gas Data Collection Program Package is shown below as an average hour(s) per response. The estimated burden includes the total time necessary to provide the requested information. In your opinion, how accurate are these estimates for the proposed forms?

(1) Form EIA-176, “Annual Report of Natural and Supplemental Gas Supply and Disposition,” 12 hours per response.

(2) Form EIA-191A, “Annual Underground Gas Storage Report,” 1 hour per response.

(3) Form EIA-191M, “Monthly Underground Gas Storage Report,” 2.5 hours per response.

(4) Form EIA-857, “Monthly Report of Natural Gas Purchases and Deliveries to Consumers,” 3.5 hours per response.

(5) Form EIA-895, “Annual Quantity and Value of Natural Gas Production Report,” .5 hours per response.

(6) Form EIA-910, “Monthly Natural Gas Marketer Survey,” 2 hours per response.

(7) Form EIA-912, “Weekly Underground Natural Gas Storage Report,” 0.5 hours per response.

(8) Form EIA-757, “Natural Gas Processing Plant Survey,” Schedule A, 0.5 hours per response; Schedule B, 1.5 hours per response.

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. No. 104-13, 44 U.S.C. Chapter 35.), Federal Energy Administration Act of 1974 (Pub. L. No. 93-275, 15 U.S.C. 761 et seq.), and the DOE Organization Act (Pub. L. No. 95-91, 42 U.S.C. 7101 et seq.).

Issued in Washington, DC, March 27, 2008.
Jay Casselberry,
Agency Clearance Officer, Energy Information Administration.

[FR Doc. E8-6801 Filed 4-1-08; 8:45 am]

BILLING CODE 6450-01-P